DEPARTMENT OF HOMELAND SECURITY

Coast Guard

[USCG-2005-22541]

Merchant Mariner Credentials: Temporary Procedures

AGENCY: Coast Guard, DHS.

ACTION: Notice of establishment of temporary offices.

SUMMARY: On August 29, 2005, Hurricane Katrina devastated the coastlines of Louisiana, Mississippi, and Alabama. The Regional Examination Center (REC) at New Orleans, which serves 14% of mariners nation-wide including approximately 29,000 mariners in those three states, was flooded, destroying vital records and equipment, and rendering the facility temporarily inoperable. The Coast Guard is opening temporary offices in Morgan City, LA and Memphis, TN to provide services to mariners that have been affected by the closure of the REC in New Orleans.

DATES: This Notice is effective October 11, 2005.

FOR FURTHER INFORMATION CONTACT: If you have questions on this notice, call Mr. Donald J. Kerlin, Deputy Director, Coast Guard National Maritime Center (NMC), (202) 493-1006.

SUPPLEMENTARY INFORMATION: Two temporary offices in Morgan City, LA and Memphis, TN have been established to assist the pre-existing RECs that have seen increases in activity due to Hurricane Katrina, and subsequently Hurricane Rita.

The temporary office in Morgan City, LA is now open, and will accept completed applications and offer fingerprinting services, identity verification, and administration of oaths for mariners. The Morgan City office is located at 800 David Dr., Morgan City, LA, 70380. It is open weekdays from 9:30 a.m. to 4 p.m. Applicants may reach the office by phone at (985) 380-5150 or by fax at (985) 380-5379.

A temporary full-service REC in Memphis, TN is also now open, and is staffed by employees from the New Orleans REC. This office, which is located adjacent to the pre-existing REC in Memphis, is dedicated to restoring services to mariners from the Gulf Coast who were affected by Katrina. The temporary Memphis office is located at 200 Jefferson, Ave., Suite 1301, Memphis, TN, 38103. It is open weekdays from 8 a.m. to 4 p.m. and closed from noon to 1 (noon to 2 on Wednesday). The office is closed the last Wednesday of each month. Applicants may reach the office by phone at (901) 544-3941 (select “1” for New Orleans REC), or by fax at (901) 544-3172.

The Morgan City and Memphis temporary offices will both be closed on Federal holidays.

When the recovery and restoration efforts along the Gulf Coast permit, the Coast Guard will re-establish full REC services in the New Orleans area.

In a previous notice published October 4, 2005 in the Federal Register, the Coast Guard waived the fee for mariners whose homes of record are in the states of Louisiana, Mississippi or Alabama, as confirmed by the Coast Guard's Merchant Mariner Licensing and Documentation System (MMLD), who are applying for duplicate credentials. Please see the notice published in the Federal Register in Volume 70 page 57885 for more details on the waiver program. You may also call Mr. Kerlin for assistance at the number provided in FOR FURTHER INFORMATION CONTACT.

Authority: 46 U.S.C. 2103, 2110, 7101, 7302, 7501, 7502, and Department of Homeland Security Delegation No. 0170.1.

Dated: October 5, 2005.
T.H. Gilmour,
Rear Admiral, U.S. Coast Guard, Assistant Commandant for Marine Safety, Security and Environmental Protection.

[FR Doc. 05-20349 Filed 10-7-05; 8:45 am]

BILLING CODE 4910-15-P